DEPARTMENT OF HOMELAND SECURITY

Federal Emergency Management Agency

[Docket ID FEMA-2018-0002; Internal Agency Docket No. FEMA-B-1826]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with applicable Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: May 1, 2018.
David I. Maurstad,
Deputy Associate Administrator for Insurance and Mitigation (Acting), Department of Homeland Security, Federal Emergency Management Agency.

State and county | Location and case No. | Chief executive officer of community | Community map repository | Online location of letter of map revision | Date of modification | Community No.
Arizona:
Maricopa | City of Avondale (17-09-2069P) | The Honorable Kenneth N. Weise, Mayor, City of Avondale, 11465 West Civic Center Drive, Avondale, AZ 85323 | Development & Engineering Services Department, 11465 West Civic Center Drive, Avondale, AZ 85323 | https://msc.fema.gov/portal/advanceSearch | Jul. 27, 2018 | 040038
Maricopa | City of Glendale (17-09-2330P) | The Honorable Jerry Weiers, Mayor, City of Glendale, 5850 West Glendale Avenue, Glendale, AZ 85301 | City Hall, 5850 West Glendale Avenue, Glendale, AZ 85301 | https://msc.fema.gov/portal/advanceSearch | Aug. 3, 2018 | 040045
Maricopa | Unincorporated Areas of Maricopa County (17-09-2069P) | The Honorable Steve Chucri, Chairman, Board of Supervisors, Maricopa County, 301 West Jefferson Street, 10th Floor, Phoenix, AZ 85003 | Flood Control District of Maricopa County, 2801 West Durango Street, Phoenix, AZ 85009 | https://msc.fema.gov/portal/advanceSearch | Jul. 27, 2018 | 040037
Maricopa | Unincorporated Areas of Maricopa County (17-09-2330P) | The Honorable Steve Chucri, Chairman, Board of Supervisors, Maricopa County, 301 West Jefferson Street, 10th Floor, Phoenix, AZ 85003 | Flood Control District of Maricopa County, 2801 West Durango Street, Phoenix, AZ 85009 | https://msc.fema.gov/portal/advanceSearch | Aug. 3, 2018 | 040037
California:
Kern | City of Delano (18-09-0302P) | The Honorable Grace Vallejo, Mayor, City of Delano, P.O. Box 3010, Delano, CA 93216 | Community Development, 1015 11th Avenue, Delano, CA 93215 | https://msc.fema.gov/portal/advanceSearch | Aug. 3, 2018 | 060078
Santa Barbara | City of Carpinteria (17-09-1980P) | The Honorable Fred Shaw, Mayor, City of Carpinteria, 5775 Carpinteria Avenue, Carpinteria, CA 93013 | Public Works Department, 5775 Carpinteria Avenue, Carpinteria, CA 93013 | https://msc.fema.gov/portal/advanceSearch | Jul. 20, 2018 | 060332
Santa Barbara | Unincorporated Areas of Santa Barbara County (17-09-1980P) | The Honorable Das Williams, Chairman, Board of Supervisors, Santa Barbara County, 105 East Anapamu Street, 4th Floor, Santa Barbara, CA 93101 | Santa Barbara County Public Works Department, Water Resources Division, 130 East Victoria Street, Santa Barbara, CA 93101 | https://msc.fema.gov/portal/advanceSearch | Jul. 20, 2018 | 060331
Stanislaus | City of Patterson (17-09-2636P) | The Honorable Deborah M. Novelli, Mayor, City of Patterson, 1 Plaza, 1st Floor, Patterson, CA 95363 | Department of Public Works, 33 South Del Puerto Avenue, Patterson, CA 95363 | https://msc.fema.gov/portal/advanceSearch | Aug. 3, 2018 | 060390
Illinois:
Adams | City of Quincy (17-05-6103P) | The Honorable Kyle A. Moore, Mayor, City of Quincy, 730 Maine Street, Quincy, IL 62301 | City Hall, 730 Maine Street, Quincy, IL 62301 | https://msc.fema.gov/portal/advanceSearch | Jul. 24, 2018 | 170003
Adams | Unincorporated Areas of Adams County (17-05-6103P) | The Honorable Les Post, Chairman, Adams County Board, Adams County Courthouse, 101 North 54th Street, Quincy, IL 62305 | Adams County Courthouse, 101 North 54th Street, Quincy, IL 62305 | https://msc.fema.gov/portal/advanceSearch | Jul. 24, 2018 | 170001
Cook | Unincorporated Areas of Cook County (17-05-3265P) | The Honorable Toni Preckwinkle, President, Cook County Board, 118 North Clark Street, Room 537, Chicago, IL 60602 | Cook County Building and Zoning Department, 69 West Washington Street, 21st Floor, Chicago, IL 60602 | https://msc.fema.gov/portal/advanceSearch | Jul. 20, 2018 | 170054
Cook | Village of Northbrook (17-05-3265P) | The Honorable Sandra E. Frum, Village President, Village of Northbrook, 1225 Cedar Lane, Northbrook, IL 60062 | Public Works Department, Engineering Division, 655 Huehl Road, Northbrook, IL 60062 | https://msc.fema.gov/portal/advanceSearch | Jul. 20, 2018 | 170132
Indiana:
Allen | Unincorporated Areas of Allen County (17-05-6157P) | The Honorable Therese M. Brown, President, Allen County Board of Commissioners, Citizens Square, 200 East Berry Street Suite 410, Fort Wayne, IN 46802 | Allen County Department of Planning Services, 200 East Berry Street, Suite 150, Fort Wayne, IN 46802 | https://msc.fema.gov/portal/advanceSearch | Jul. 27, 2018 | 180302
DeKalb | Unincorporated Areas of DeKalb County (17-05-6157P) | The Honorable Donald D. Grogg, President, DeKalb County Board of County Commissioners, 100 South Main Street Courthouse, Auburn, IN 46706 | DeKalb County Planning Commission, 301 South Union Street, Auburn, IN 46706 | https://msc.fema.gov/portal/advanceSearch | Jul. 27, 2018 | 180044
Nevada:
Washoe | City of Reno (17-09-2191P) | The Honorable Hillary Schieve, Mayor, City of Reno, P.O. Box 1900, Reno, NV 89501 | City Hall Annex, 450 Sinclair Street, Reno, NV 89501 | https://msc.fema.gov/portal/advanceSearch | Jul. 31, 2018 | 320020
Washoe | Unincorporated Areas of Washoe County (17-09-1858P) | The Honorable Marsha Berkbigler, Chair, Board of Commissioners, Washoe County, 1001 East 9th Street, Reno, NV 89512 | Washoe County Administration Building, Department of Public Works, 1001 East 9th Street, Reno, NV 89512 | https://msc.fema.gov/portal/advanceSearch | Aug. 1, 2018 | 320019
Washoe | Unincorporated Areas of Washoe County (17-09-2191P) | The Honorable Marsha Berkbigler, Chair, Board of Commissioners, Washoe County, 1001 East 9th Street, Reno, NV 89512 | Washoe County Administration Building, Department of Public Works, 1001 East 9th Street, Reno, NV 89512 | https://msc.fema.gov/portal/advanceSearch | Jul. 31, 2018 | 320019
New Jersey: Ocean | Borough of Point Pleasant Beach (18-02-0563P) | The Honorable Stephen D. Reid, Mayor, Borough of Point Pleasant Beach, 416 New Jersey Avenue, Point Pleasant Beach, NJ 08742 | Municipal Building, 416 New Jersey Avenue, Point Pleasant Beach, NJ 08742 | https://msc.fema.gov/portal/advanceSearch | Jul. 27, 2018 | 340388
Wisconsin:
Monroe | Unincorporated Areas of Juneau County (17-05-4106P) | The Honorable Alan K. Peterson, Chairman, Juneau County Board of Supervisors, 220 East State Street, Mauston, WI 53948 | Juneau County Courthouse, 220 East State Street, Mauston, WI 53948 | https://msc.fema.gov/portal/advanceSearch | Jul. 20, 2018 | 550580
Monroe | Unincorporated Areas of Monroe County (17-05-4106P) | The Honorable Cedric Schnitzler, Chair, Monroe County Board Committee, 202 South K Street, Room 1, Sparta, WI 54656 | Monroe County Sanitation and Zoning Office, 14307 County Highway B, Sparta, WI 54656 | https://msc.fema.gov/portal/advanceSearch | Jul. 20, 2018 | 550571
Monroe | Village of Kendall (17-05-4106P) | The Honorable Richard Martin, President, Village of Kendall, P.O. Box 216, Kendall, WI 54638 | Village Hall, 219 West South Railroad Street, Kendall, WI 54638 | https://msc.fema.gov/portal/advanceSearch | Jul. 20, 2018 | 550287

[FR Doc. 2018-09689 Filed 5-7-18; 8:45 am]

BILLING CODE 9110-12-P